DEPARTMENT OF THE TREASURY

Submission for OMB Review; Comment Request

May 23, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 27, 2005 to be assured of consideration.

Internal Revenue Service (IRS)

OMB Number: 1545-0922.

Form Numbers: IRS Forms 8329 and 8330.

Type of Review: Extension.

Title: Form 8329: Lender's Information Return for Mortgage Credit Certificates (MCCs); and

Form 8330: Issuer's Quarterly Information Return for Mortgage Credit Certificates (MCCs).

Description: Form 8329 is used by lending institutions and Form 8330 is used by state and local government to report on mortgage credit certificates (MCCs) authorized under Internal Revenue Code (IRC) Section 25. IRS matches the information supplied by lenders and issuers to ensure that the credit is computed properly.

Respondents: Business or other for-profit, State, Local or Tribal Government.

Estimated Number of Respondents/Recordkeepers: 10,500.

Estimated Burden Hours Respondent/Recordkeeper:

| Form 8329 | Form 8330
Recordkeeping | 3 hr., 35 min | 4 hr., 32 min.
Learning about the law or the form | 1 hr., 5 min | 1 hr., 23 min.
Preparing and sending the form to the IRS | 1 hr., 12 min | 1 hr., 31 min.

Frequency of response: Quarterly (Form 8330); Annually (Form 8329).

Estimated Total Reporting/Recordkeeping Burden: 73,720 hours.

OMB Number: 1545-1100.

Regulation Project Number: REG-209106-89 NPRM (formerly EE-84-89).

Type of Review: Extension.

Title: Changes with Respect to Prizes and Awards and Employee Achievement Awards.

Description: This regulation requires recipients of prizes and awards to maintain records to determine whether a qualifying designation has been made. The affected public are prize and award recipients who seek to exclude the cost of qualifying prize or award.

Respondents: Individuals and households.

Estimated Number of Respondents: 5,100.

Estimated Burden Hours Respondent: 15 minutes.

Frequency of response: On occasion.

Estimated Total Reporting Burden: 1,275 hours.

OMB Number: 1545-1375.

Regulation Project Number: IA-5-92 Final.

Type of Review: Extension.

Title: Carryover of Passive Activity Losses and Credit and At Risk Losses to Bankruptcy Estates of Individuals.

Description: These regulations provide for a joint election to have the regulations apply to certain bankruptcy cases. In a chapter 7 case, the written consent of the trustee must be obtained. In a chapter 11 case the election must be in the reorganization plan or in a court order.

Respondents: Individuals or households.

Estimated Number of Respondents: 500.

Estimated Burden Hours Respondent: 1 hour.

Frequency of response: Annually.

Estimated Total Reporting Burden: 100 hours.

OMB Number: 1545-1409.

Form Number: IRS Form 8842.

Type of Review: Extension.

Title: Election to Use Different Annualization Periods for Corporate Estimated Tax.

Description: Form 8842 is used by corporations (including S corporations), tax-exempt organizations subject to the unrelated business income tax, and private foundations to annually elect the use of an annualization period in section 6655(e)(2)(c)(i) or (ii) for purpose of figuring the corporation's estimated tax payments under the annualized income installment method.

Respondents: Business or other for-profit.

Estimated Number of Respondents/Recordkeepers: 1,700.

Estimated Burden Hours Respondent/Recordkeeper:

Recordkeeping—1 hr., 55 min.

Learning about the law or the form—6 min.

Preparing and sending the form to the IRS—8 min.

Frequency of response: On occasion.

Estimated Total Reporting/Recordkeeping Burden: 4,335 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Lois K. Holland,
Treasury PRA Clearance Officer.

[FR Doc. 05-10638 Filed 5-26-05; 8:45 am]

BILLING CODE 4830-01-P